INTERNATIONAL TRADE COMMISSION

[Investigation No. 337-TA-975]

Certain Computer Cables, Chargers, Adapters, Peripheral Devices and Packaging Containing the Same; Issuance of a Limited Exclusion Order; Termination of the Investigation

AGENCY: U.S. International Trade Commission.

ACTION: Notice.

SUMMARY: Notice is hereby given that the U.S. International Trade Commission has issued a limited exclusion order denying entry of certain computer cables, chargers, adapters, peripheral devices and packaging containing the same. The investigation is terminated.

FOR FURTHER INFORMATION CONTACT: Amanda Pitcher Fisherow, Esq., Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on December 17, 2015, based on a complaint filed on behalf of Belkin International, Inc. of Playa Vista, California (“Complainant”). 80 FR 78763-64 (December 17, 2015). The complaint alleges violations of Section 337 of the Tariff Act of 1930, as amended, 19 U.S.C. 1337, in the sale for importation, importation, or sale within the United States after importation of certain computer cables, chargers, adapters, peripheral devices and packaging containing the same by reason of infringement of one or more of U.S. Trademark Registration No. 2,339,459; U.S. Trademark Registration No. 2,339,460; U.S. Trademark Registration No. 4,168,379; and U.S. Trademark Registration No. 4,538,212. The Commission's notice of investigation named the following respondents: Dongguan Pinte Electronic Co., Ltd., of Dongguan City, China; and Dongguan Shijie Fresh Electronic Products Factory, of Dongguan City, China (collectively “Respondents”). The Office of Unfair Import Investigations (“OUII”) was named as a party.

On August 8, 2016, the Commission determined not to review an initial determination finding the Respondents in default and requested briefing from the parties and the public on the issues of remedy, the public interest, and bonding. 81 FR 53505-06 (Aug. 12, 2016).

Complainant filed a submission requesting a limited exclusion order (“LEO”) against the Respondents, arguing that none of the public interest factors weigh against granting an LEO. Complainant asserts that there are several competitors in the market and complainant can fulfill any increased demand. No public interest submissions were filed by the public. Complainant requested that Respondents either should not be afforded the opportunity to import during the period of Presidential review, or in the alternative, that the bond be set at 100 percent of entered value in accordance with the Commission practice for defaulting respondents. OUII supported the Complainant's requested relief, including imposition of 100 percent bond.

The Commission finds that the statutory requirements for relief under section 337(g)(1), (19 U.S.C. 1337(g)(1)) are met with respect to the Respondents. In addition, the Commission finds that the public interest factors enumerated in section 337(g)(1) do not preclude issuance of the statutory relief.

The Commission has determined that the appropriate remedy in this investigation is an LEO prohibiting the unlicensed entry of certain computer cables, chargers, adapters, peripheral devices and packaging containing the same that are manufactured abroad by or on behalf of, or imported by or on behalf of, Respondents that infringe one or more of U.S. Trademark Registration Nos. 2,339,459; 2,339,460; 4,168,379; and 4,538,212.

Finally, the Commission has determined that the bond during the period of Presidential review pursuant to 19 U.S.C. 1337(j) shall be in the amount of 100 percent of the entered value of the imported articles that are subject to the LEO. The Commission's orders were delivered to the President and to the United States Trade Representative on the day of their issuance.

The authority for the Commission's determination is contained in section 337 of the Tariff Act of 1930, as amended (19 U.S.C. 1337), and in part 210 of the Commission's Rules of Practice and Procedure (19 CFR part 210).

By order of the Commission.
Issued: October 13, 2016.
Lisa R. Barton,
Secretary to the Commission.

[FR Doc. 2016-25196 Filed 10-17-16; 8:45 am]

BILLING CODE 7020-02-P